DEPARTMENT OF AGRICULTURE

Commodity Credit Corporation

Information Collection; Farm Storage Facility Loan Program

AGENCY: Commodity Credit Corporation, USDA.

ACTION: Notice; request for comments.

SUMMARY: In accordance with the Paperwork Reduction Act of 1995, the Commodity Credit Corporation (CCC) is seeking comments from all interested individuals and organizations on the extension with revision of a currently approved information collection in support of the Farm Storage Facility Loan Program.

DATES: Comments must be received in writing on or before July 22, 2003 to be assured of consideration. Comments received after that date will be considered to the extent practicable.

ADDRESSES: Comments concerning this notice should be addressed to Chris Kyer, Price Support Division, Farm Service Agency, United States Department of Agriculture, 1400 Independence Avenue, SW., STOP 0512, Washington, DC 20250-0512, or to the Desk Officer for Agriculture, Office of Information and Regulatory Affairs, Office of Management and Budget, Washington, DC 20503. Comments may be also submitted by email to chris_kyer@wdc.fsa.usda.gov. Copies of the information collection may be requested by writing to Chris Kyer at the above address.

FOR FURTHER INFORMATION CONTACT: Chris Kyer, Price Support Division, Farm Service Agency, USDA, at (202) 720-7935.

SUPPLEMENTARY INFORMATION:

Description of Information Collection

Title: Farm Storage Facility Loan Program.

OMB Control Number: 0560-0204.

Expiration Date: 1/31/04.

Type of Request: Extension with revision of a currently approved information collection.

Abstract: This information is needed to administer the CCC's Farm Storage Facility Loan Program, which is covered under the regulation of 7 CFR Part 1436. The information will be gathered from producers needing additional on farm-grain storage and handling capacity to determine whether they are eligible for loans.

Estimate of Burden: Average 15 minutes per respondent.

Respondents: Eligible Producers.

Estimated Number of Respondents: 2,000.

Estimated Total Annual Burden on Respondents: 15,700 hours.

Comment is invited on: (a) Whether the collection of information is necessary for the proper performance of the functions of the agency, including whether the information will have practical utility; (b) the accuracy of the agency's estimate of burden including the validity of the methodology and assumptions used; (c) ways to enhance the quality, utility, and clarity of the information to be collected; and (d) ways to minimize the burden of the collection of information on those who are to respond, including through the use of appropriate automated, electronic, mechanical or other technological collection techniques or other forms of information technology.

All responses to this notice will be summarized and included in the request for OMB approval. All comments will also become a matter of public record.

Signed at Washington, DC, on May 16, 2003.
James R. Little,
Executive Vice President, Commodity Credit Corporation.

[FR Doc. 03-12924 Filed 5-22-03; 8:45 am]

BILLING CODE 3410-05-P